DEPARTMENT OF AGRICULTURE

Submission for OMB Review; Comment Request

March 13, 2008.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Sugar Imported for Exports as Refined Sugar or as a Sugar-Containing Product, or Used in Production of Certain Polyhydric Alcohols.

Omb Control Number: 0551-0015.

Summary of Collection: Regulation 7 CFR Part 1530 authorizes the Foreign Agricultural Service (FAS) to issue import licenses to enter raw cane sugar (exempt from the tariff-rate quota for the raw cane sugar imports and the related requirements) on the condition that an equivalent quantity of refined sugar be: (1) Exported as refined sugar; (2) exported as an ingredient in sugar containing products; or (3) used in production of certain polyhydric alcohols. The purpose of the sugar import-licensing program is to assist U.S. sugar manufacturers, refiners, and processors in making U.S. products price competitive on the world market; and facilitate the use of domestic refining capacity.

Need and Use of the Information: FAS will collect information to verify that the world-priced sugar is actually exported and not diverted onto the domestic market, thereby undermining the objectives of politically sensitive U.S. sugar policies. This collection enables USDA to regularly monitor the status of program participants in an effort to ensure that they remain within Program parameters. Without the collection, there would be increased opportunity to purposely divert sugar onto the domestic market.

Description of Respondents: Business or other for-profit.

Number of Respondents: 200.

Frequency Of Responses: Reporting; Quarterly; Annually.

Total Burden Hours: 717.

Foreign Agricultural Service

Title: Specialty Sugar Import Certificates.

Omb Control Number: 0551-0025.

Summary of Collection: The Secretary of Agriculture each year announces the U.S. sugar import quantity that will be subject to the tariff-rate quotas, including specialty sugars for each fiscal year (October 1-September 30). In order to grant licenses, ensure that imported specialty sugar does not disrupt the current domestic support program, and maintain administrative control over the program, an application with certain specific information must be collected from those who wish to participate in the program established by the regulation. Importers are required to supply specific information to the Secretary and the Foreign Agricultural Service (FAS), in order to be granted a certificate to import specialty sugar. The information is supplied to U.S. Customs officials in order to certify that the sugar being imported is “specialty sugar.”

Need and Use of the Information: The collected information will be used to: (1) Determine whether applicants for the program meet the regulation's eligibility criteria; (2) ensure that sugar to be imported is specialty sugar and meets the requirements of the regulation; (3) audit participants' compliance with the regulation; and (4) prevent entry of world-priced program sugar from entering the domestic commercial market instead of domestic specialty sugar market. Without the collection of this information the Certifying Authority would not have any basis on which to make a decision on whether a certificate should be granted, and would not have the ability to monitor sugar imports under this program.

Description of Respondents: Business or other for-profit.

Number of Respondents: 25.

Frequency of Responses: Reporting: Annually.

Total Burden Hours: 30.

Foreign Agricultural Service

Title: Export Assistance Programs.

Omb Control Number: 0551-0031.

Summary of Collection: The Office of Trade Program (OTP) provides vital services within the Foreign Agricultural Service (FAS) of the U.S. Department of Agriculture. It facilitates trade contacts between U.S. exporters and foreign buyers seeking U.S. food and agricultural products. All of the assistance offered is designed to promote U.S. agricultural exports by helping American exporters make contact with export agents, trading companies, importers and foreign buyers thus creating opportunities to sell their products in overseas markets. The specific programs covered by this request for OMB information collection authority are: U.S. Suppliers List, Buyer Alert, Trade Shows, Foreign Buyers List, Export Directory of U.S. Food Distribution Companies, Madigan Award. The authority for these program falls under 7 U.S. C. Part 1761, 7 U.S.C. Part 5693 and 7 U.S.C. part 1765b. FAS will collect information using a combination of forms and telephone interviews.

Need and Use of the Information: FAS will collect information on contact names, mailing addresses, telephones, fax, email, and websites. The main purpose for collecting the information is to foster trade contacts in an effort to facilitate greater export of U.S. agriculture food, forestry, and fishery products. The databases are used to recruit U.S. exporters, importers, and buyers to participate in market development activities sponsored by USDA. These databases must be updated periodically to maintain the integrity and usefulness to the trade community.

Description of Respondents: Business or other for-profit.

Number of Respondents: 31,910.

Frequency of Responses: Reporting: Annually.

Total Burden Hours: 3,632.

Ruth Brown,
Departmental Information Collection Clearance Officer.

[FR Doc. E8-5393 Filed 3-17-08; 8:45 am]

BILLING CODE 3410-10-P